FEDERAL COMMUNICATIONS COMMISSION

[Report No. AUC-06-85-C (Auction No. 85); DA 06-2034]

LPTV and TV Translator Digital Companion Channel Applications Mutually Exclusive Proposals; Announcement of 60-Day Settlement Period Ending December 15, 2006

AGENCY: Federal Communications Commission.

ACTION: Notice.

SUMMARY: This document announces a 60-day settlement period filing window for parties that filed mutually exclusive proposals for digital companion channels for low power television and television translator stations to enter into settlement agreements or otherwise resolve mutual exclusivities by means of engineering solutions.

DATES: Settlement Agreement filing window October 17, 2006—December 15, 2006.

FOR FURTHER INFORMATION CONTACT: Video Division, Media Bureau: Hossein Hashemzadeh (technical) or Shaun Maher (legal) at (202) 418-1600. To request materials in accessible formats (Braille, large print, electronic files, or audio format) for people with disabilities, send an e-mail to fcc504@fcc.gov or call the Consumer and Governmental Affairs Bureau at (202) 418-0530 or 418-0432. (TTY).

SUPPLEMENTARY INFORMATION: This is a summary of the Auction No. 85 Settlement Public Notice released on October 17, 2006. The complete text of the Auction No. 85 Settlement Public Notice, including attachments and related Commission documents, is available for public inspection and copying from 8 a.m. to 4:30 p.m. Monday through Thursday or from 8 a.m. to 11:30 a.m. on Friday at the FCC Reference Information Center, Portals II, 445 12th Street SW., Room CY-A257, Washington, DC 20554. The Auction No. 85 Settlement Public Notice and related Commission documents may also be purchased from the Commission's duplicating contractor, Best Copy and Printing, Inc. (BCPI), Portals II, 445 12th Street, SW., Room CY-B402, Washington, DC, 20554, telephone 202-488-5300, facsimile 202-488-5563, or you may contact BCPI at its Web site: http://www.BCPIWEB.com. When ordering documents from BCPI, please provide the appropriate FCC document number, such as DA 06-2034 for the Auction No. 85 Settlement Public Notice. The Auction No. 85 Settlement Public Notice and related documents are also available on the Internet at the Commission's Web site at: http://wireless.fcc.gov/auctions/85/.

1. Mutually Exclusive Engineering Proposals: On April 20, 2006, the Media and Wireless Telecommunications Bureaus (Bureaus) announced a filing window for certain low power television (LPTV) and television translator stations to submit proposals for digital companion channels by public notice, 71 FR 34348, June 14, 2006. In attachment A of the Auction No. 85 Settlement Public Notice, the Bureaus provide a list of all proposals received that are mutually exclusive with other proposals submitted in the filing window. Since the proposals listed in Attachment A of the Auction No. 85 Settlement Public Notice are mutually exclusive, they are subject to the Commission's competitive bidding procedures.

2. 60-Day Settlement Period Ending December 15, 2006: The Bureaus announce a 60-day period beginning with the release of the Auction No. 85 Settlement Public Notice and ending December 15, 2006, for parties with proposals in the mutually exclusive (MX) groups listed in Attachment A of the Auction No. 85 Settlement Public Notice to enter into settlement agreements or otherwise resolve their mutual exclusivities by means of engineering solutions. The parties must submit the agreements and affidavits required by 47 CFR 73.3525 and/or any engineering submission by the deadline on December 15, 2006. After approval of a settlement and/or engineering submission, the proposed permittee(s) must submit an accurate and complete FCC Form 346 by the deadline subsequently specified by staff.

3. Settlement Agreement Submission Requirements: Applicants must ensure that their settlement agreements comply with the provisions of 47 U.S.C. 311(c) and the pertinent requirements of 47 CFR 73.3525 including the reimbursement restrictions. For example: (a) Parties must submit a copy of their settlement agreement and any ancillary agreement(s); (b) parties must submit a joint request for approval of such agreement; (c) parties must submit an affidavit of each party to the agreement setting forth: (i) the reasons why it is considered that such agreement is in the public interest; (ii) a statement that its application was not filed for the purpose of reaching or carrying out such agreement; (iii) a certification that neither the applicant nor its principals has received any money or other consideration in excess of the legitimate and prudent expenses of the applicant; (iv) the exact nature and amount of any consideration paid or promised; (v) an itemized accounting of the expenses for which it seeks reimbursement; and (vi) the terms of any oral agreement relating to the dismissal or withdrawal of its application.

4. Applicants that unilaterally dismiss their application or file an engineering amendment that removes the mutual exclusivity to their application without having entered a settlement agreement with another applicant must nevertheless submit an affidavit as to whether or not consideration has been promised to or received by such applicant in connection with their dismissal or engineering amendment.

5. Anti-Collusion Rule: The prohibition of collusion set forth in 47 CFR 1.2105(c) and 73.5002(d) became effective upon the short-form (FCC Form 175) filing deadline on June 30, 2006. However, the Commission's Rules provide for a limited opportunity to settle, or otherwise resolve mutual exclusivities by means of engineering solutions, following the filing of the FCC Form 175 applications. Specifically, parties in MX groups listed in Attachment A of the Auction No. 85 Settlement Public Notice may discuss possible settlement agreements or technical solutions with other parties in their group during the limited period which commences with the release of the Auction No. 85 Settlement Public Notice and ends on December 15, 2006. Once the settlement period ends, the anti-collusion restrictions once again take effect. The Commission will proceed to auction with any competing mutually exclusive proposals that are not resolved by the parties during this settlement period.

6. When and Where to File: Settlement agreements that are entered into in connection with this settlement period must be filed prior to 6 p.m. Eastern Time (ET) on December 15, 2006, as an attachment to the respective parties' FCC Form 175s via the FCC Auction System. Similarly, applicants proposing engineering amendments in connection with this settlement period must do so by amending the technical portion of their FCC Form 175s via the FCC Auction System. Engineering amendments also must be submitted prior to 6:00 p.m. on December 15, 2006. Late-filed settlement agreements and engineering amendments or unconfirmed submissions of electronic data will not be accepted. Settlement agreements and engineering amendments may be filed any time beginning 9 a.m. ET on October 17, 2006, until 6 p.m. ET on December 15, 2006. Applicants are strongly encouraged to file their settlement agreements and engineering amendments early and are responsible for allowing adequate time for filing. Information about accessing, viewing, completing amendments to, and filing settlement agreements for the FCC Form 175 is included in Attachment B of the Auction No. 85 Settlement Public Notice. Technical support is available at (877) 480-3201, option nine; (202) 414-1250; or (202) 414-1255 (text telephony (TTY)); hours of service are Monday through Friday, from 8 a.m. to 6 p.m. ET. In order to provide better service to the public, all calls to the hotline are recorded.

7. The Bureaus will withhold further action on the mutually exclusive proposals listed in Attachment A of the Auction No. 85 Settlement Public Notice pending submission of settlement agreements or engineering proposals to resolve mutual exclusivity. Following the close of the settlement period, the Bureaus subsequently will announce an auction date and propose auction procedures for selecting among the remaining MX proposals.

Federal Communications Commission.
Gary D. Michaels,
Deputy Chief, Auctions Access and Spectrum Division, WTB.

[FR Doc. E6-18220 Filed 10-27-06; 8:45 am]

BILLING CODE 6712-01-P